DEPARTMENT OF THE TREASURY

Community Development Financial Institutions Fund

Open Meeting of the Community Development Advisory Board

AGENCY: Community Development Financial Institutions Fund, Department of the Treasury.

ACTION: Notice of open meeting.

SUMMARY: This notice announces the next meeting of the Community Development Advisory Board, which provides advice to the Director of the Community Development Financial Institutions Fund.

DATES: The next meeting of the Community Development Advisory Board will be held on Tuesday, January 21, 2003, beginning at 1 p.m., and on Wednesday, January 22, 2003, beginning at 9 a.m.

ADDRESSES: The Community Development Advisory Board meeting will be held at the offices of the Treasury Executive Institute, located at 801 9th Street, NW., Washington, DC.

FOR FURTHER INFORMATION, CONTACT: The Office of External Affairs of the Community Development Financial Institutions Fund (the “Fund”), U.S. Department of Treasury, 601 13th Street, NW., Suite 200 South, Washington, DC 20005, (202) 622-9046 (this is not a toll free number). Other information regarding the Fund and its programs may be obtained through the Fund's Web site at http://www.cdfifund.gov.

SUPPLEMENTARY INFORMATION: Section 104(d) of the Community Development Banking and Financial Institutions Act of 1994 (12 U.S.C. 4703(d)) established the Community Development Advisory Board (the “Advisory Board”). The charter for the Advisory Board has been filed in accordance with the Federal Advisory Committee Act, as amended (5 U.S.C. App.), and with the approval of the Secretary of the Treasury.

The function of the Advisory Board is to advise the Director of the Fund (who has been delegated the authority to administer the Fund) on the policies regarding the activities of the Fund. The Fund is a wholly owned corporation within the Department of the Treasury. The Advisory Board shall not advise the Fund on the granting or denial of any particular application for monetary or non-monetary awards. The Advisory Board shall meet at least annually.

It has been determined that this document is not a major rule as defined in Executive Order 12291 and therefore regulatory impact analysis is not required. In addition, this document does not constitute a rule subject to the Regulatory Flexibility Act (5 U.S.C. Chapter 6). The next meeting of the Advisory Board, all of which will be open to the public, will be held at the offices of the Treasury Executive Institute, located at 801 9th Street, NW., Washington, DC, on Tuesday, January 21, 2003, beginning at 1 p.m., and on Wednesday, January 22, 2003, beginning at 9 a.m. The room will accommodate 20 members of the public. Seats are available on a first-come, first-served basis. Participation in the discussions at the meeting will be limited to Advisory Board members and Department of the Treasury staff. Anyone who would like to have the Advisory Board consider a written statement must submit it to the Fund, at the address of the Fund specified above in the FOR FURTHER INFORMATION CONTACT section, by 4 p.m., Monday, January 13, 2003.

The meeting will include a report from the Director on the activities of the CDFI Fund since the last Advisory Board meeting, including programmatic, fiscal and legislative initiatives for the years 2003 and 2004.

Authority: 12 U.S.C. 4703; Chapter X, Pub. L. 104-19, 109 Stat. 237.

Tony T. Brown,
Director, Community Development Financial Institutions Fund.

[FR Doc. 02-32648 Filed 12-26-02; 8:45 am]

BILLING CODE 4810-70-P